DEPARTMENT OF COMMERCE

Minority Business Development Agency

Notice of the Establishment of a National Advisory Council on Minority Business Enterprise and the Solicitation of Nominations for Membership

AGENCY: Minority Business Development Agency, Commerce.

ACTION: Notice.

SUMMARY: In accordance with the provisions of the Federal Advisory Committee Act, as amended, 5 U.S.C. App. 2, and with the concurrence of the General Services Administration, the Department of Commerce is announcing the establishment of the National Advisory Council on Minority Business Enterprise (NACMBE). Pursuant to this notice, the Department of Commerce is also soliciting nominations for membership on the NACMBE for the upcoming 2-year charter term beginning in April 2010. The purpose of the NACMBE is to advise the Secretary of Commerce (Secretary) on key issues pertaining to the growth and competitiveness of the nation's Minority Business Enterprises (MBEs).

DATES: Complete nomination packages for NACMBE membership must be received by the Department of Commerce on or before May 3, 2010, at 5 p.m. Eastern Daylight Time (EDT).

ADDRESSES: Nomination packages may be submitted through the mail or may be submitted electronically. Interested persons are encouraged to submit nominations electronically. The deadline is the same for nominations submitted through the mail and for nominations submitted electronically.

1. Submission by Mail: Nominations sent by mail should be addressed to the U.S. Department of Commerce, Minority Business Development Agency, Office of Legislative, Education and Intergovernmental Affairs, Attn: Stephen Boykin, 1401 Constitution Avenue, NW., Room 5063, Washington, DC 20230. Applicants are advised that the Department of Commerce's receipt of mail sent via the United States Postal Service may be substantially delayed or suspended in delivery due to security measures. Applicants may therefore wish to use a guaranteed overnight delivery service to ensure nomination packages are received by the Department of Commerce by the deadline set forth in this notice.

2. Electronic Submission: Nomination sent electronically should be addressed to: NACMBEnominations@mbda.gov. Please include “NACMBE Nomination” in the title of the e-mail.

FOR FURTHER INFORMATION CONTACT: Stephen Boykin, MBDA Office of Legislative, Education and Intergovernmental Affairs, at (202) 482-1712 or by e-mail at: NACMBEnominations@mbda.gov.

SUPPLEMENTARY INFORMATION: Background: Pursuant to Executive Order 11625, as amended, the Department of Commerce, through the Minority Business Development Agency (MBDA), is charged with promoting the growth and competitiveness of the nation's minority business enterprise. NACMBE is being established in the Department of Commerce as a discretionary advisory committee in accordance with the provisions of the Federal Advisory Committee Act, as amended, 5 U.S.C. App. 2, and with the concurrence of the General Services Administration. The NACMBE will be administered primarily by MBDA.

MBEs make a substantial contribution to the U.S. economy, generating $661 billion in total gross receipts in 2002 and employing approximately 4.7 million people with an annual payroll totaling $115 billion. This represented only 7.5 percent of the total gross receipts generated by all U.S. businesses (excluding publicly-held firms), notwithstanding that in 2002 the adult minority population represented 29 percent of the total U.S. adult population. However, if MBEs were to generate total gross receipts in relation to the current minority population, the U.S. economy would benefit from an estimated additional $1.8 trillion in annual gross receipts and 11.4 million new jobs. MBEs also have the potential to contribute significantly to the balance of trade as they are twice as likely to generate sales through exports compared to non-minority firms.

Obstacles such as access to capital, access to markets and access to business and social networks, all of which are essential for any businesses to increase in size and scale, continue to impede the growth and competiveness of MBEs. Unless these obstacles are addressed, the MBE community will continue to lag behind their non-minority counterparts undermining the nation's ability to regain its economic footing and to build a sustainable economy.

Objectives and Scope of Activities: NACMBE will advise the Secretary on key issues pertaining to the growth and competitiveness of the nation's MBEs, as defined in Executive Order 11625, as amended, and 15 CFR 1400.1. NACMBE will provide advice and recommendations on a broad range of policy issues that affect minority businesses and their ability to successfully access the domestic and global marketplace. These policy issues may include, but are not limited to:

• Methods for increasing jobs in the health care, manufacturing, technology, and “green” industries;

• Global and domestic barriers and impediments;

• Global and domestic business opportunities;

• MBE capacity building;

• Institutionalizing global business curriculums at colleges and universities and facilitating the entry of MBEs into such programs;

• Identifying and leveraging pools of capital for MBEs;

• Methods for creating high value loan pools geared toward MBEs with size, scale and capacity;

• Strategies for collaboration amongst minority chambers, trade associations and nongovernmental organizations;

• Accuracy, availability and frequency of economic data concerning minority businesses;

• Methods for increasing global transactions with entities such as but not limited to the Export-Import Bank, OPIC and the IMF; and

• Requirements for a uniform and reciprocal MBE certification program.

The advice and recommendations provided by NACMBE may take the form of one or more written reports. NACMBE will also serve as a vehicle for an ongoing dialogue with the MBE community and with other stakeholders.

The Secretary has determined that the establishment of NACMBE is necessary and in the public interest in connection with MBDA's duties and responsibilities in advancing the growth and competitiveness of MBEs pursuant to Executive Order 11625, as amended.

Membership: NACMBE shall be composed of not more than 25 members. The NACMBE members shall be distinguished individuals from the nonfederal sector appointed by the Secretary. The members shall be recognized leaders in their respective fields of endeavor and shall possess the necessary knowledge and experience to provide advice and recommendations on a broad range of policy issues that impact the ability of MBEs to successfully participate in the domestic and global marketplace. NACMBE shall have a balanced membership reflecting a diversity of industries, ethnic backgrounds and geographical regions, and to the extent practicable, gender and persons with disabilities.

NACMBE members shall be appointed as Special Government Employees for a two-year term and shall serve at the pleasure of the Secretary. Members may be re-appointed to additional two-year terms, without limitation. The Secretary may designate a member or members to serve as the Chairperson or Vice-Chairperson(s) of NACMBE. The Chairperson or Vice-Chairperson(s) shall serve at the pleasure of the Secretary.

NACMBE members will serve without compensation, but will be allowed reimbursement for reasonable travel expenses, including a per diem in lieu of subsistence, as authorized by 5 U.S.C. 5703, as amended, for persons serving intermittently in Federal government service. NACMBE members will serve in a solely advisory capacity.

Eligibility. In addition to the above criterion, eligibility for NACMBE membership is limited to U.S. citizens who are not full-time employees of the Federal Government, are not registered with the U.S. Department of Justice under the Foreign Agents Registration Act and are not a Federally-registered lobbyists pursuant to the Lobbying Disclosure Act of 1995, as amended, at the time of appointment to the NACMBE.

Nomination Procedures and Selection of Members: The Department of Commerce is accepting nominations for NACMBE membership for the upcoming 2-year charter term beginning in April 2010. Members shall serve until the NACMBE charter expires in April 2012, although members may be re-appointed by the Secretary without limitation. Nominees will be evaluated consistent with the factors specified in this notice and their ability to successfully carryout the goals of the NACMBE.

For consideration, a nominee must submit the following materials: (1) Resume, (2) personal statement of interest, including a summary of how the nominee's experience and expertise would support the NACMBE objectives; (3) an affirmative statement that the nominee is not required to register as a foreign agent under the Foreign Agents Registration Act of 1938, as amended, and (4) an affirmative statement that: (a) The nominee is not currently a Federally-registered lobbyist and will not be a Federally-registered lobbyist at the time of appointment and during his/her tenure as a NACMBE member, or (b) if the nominee is currently a Federally-registered lobbyist, that the nominee will no longer be a Federally-registered lobbyist at the time of appointment to the NACMBE and during his/her tenure as a NACMBE member. All nomination information should be provided in a single, complete package by the deadline specified in this notice. Nominations packages should be submitted by either mail or electronically, but not by both methods. Self-nominations will be accepted.

NACMBE Members will be selected in accordance with applicable Department of Commerce guidelines and in a manner that ensures that NACMBE has a balanced membership. In this respect, the Secretary seeks to appoint members who represent a diversity of industries, ethnic backgrounds and geographical regions, and to the extent practicable, gender and persons with disabilities.

All appointments shall be made without discrimination on the basis of age, ethnicity, gender, disability, sexual orientation, or cultural, religious, or socioeconomic status. All appointments shall also be made without regard to political affiliations.

Dated: March 23, 2010.
David A. Hinson,
National Director, Minority Business Development Agency.

[FR Doc. 2010-6969 Filed 3-26-10; 8:45 am]

BILLING CODE P